PRESIDIO TRUST

Letterman Complex, The Presidio of San Francisco, Notice of Availability To Review the Final Environmental Impact Statement and Planning Guidelines

AGENCY: The Presidio Trust.

ACTION: Notice of availability to review the Final Environmental Impact Statement (EIS) and Planning Guidelines for new development and uses on 23 acres within the Letterman Complex, The Presidio of San Francisco, San Francisco, California (Presidio). The Final EIS is a supplement to the 1994 Final General Management Plan Amendment (GMPA) EIS for the Presidio.

SUMMARY: Pursuant to section 101(2)(c) of the National Environmental Policy Act of 1969 (Pub. L. 91-90 as amended), the Presidio Trust (Trust) has prepared a Final EIS analyzing the potential impacts of new development and uses on a 23-acre site within the 60-acre Letterman Complex, located in the northeast corner of the Presidio. The Final EIS describes and evaluates a preferred alternative (Digital Arts Center) and five additional alternatives for development and occupancy of new low- to mid-rise buildings totaling approximately 900,000 square feet. The six alternatives were fully examined in the Draft EIS that was circulated and filed in April 1999 (64 FR 22662-63). Two of the six alternatives were previously analyzed in the 1994 GMPA EIS: a specific proposal for the site (Science and Education Center) as part of a proposed action (Alternative A); and a no action alternative (Minimum Requirements/Alternative B). The other alternatives evaluated in the Final EIS were identified through a Request for Qualifications and scoping process and include a Sustainable Urban Village, a Mixed-Use Development, and a Live/Work Village.

CONTENTS OF FINAL EIS: The Final EIS consists of responses to all of the substantive comments received on the Draft EIS, and revisions to the Draft EIS that incorporate analysis, additional information, and suggested changes made in response to comments.

MATERIALS AVAILABLE TO THE PUBLIC: Copies of the Final EIS and Planning Guidelines are available by calling or writing: The Presidio Trust, P.O. Box 29052, San Francisco, CA 94129-0052, Phone: 415-561-5300.

The Final EIS, Planning Guidelines, and GMPA EIS are also available for review at:

The Presidio Trust Library, 34 Graham Street, San Francisco, CA 94129, Phone: 415-561-5300

William Penn Mott, Jr. Visitor Center (Presidio) (open 7 days), Montgomery Street, Main Post, San Francisco, CA 94129, Phone: 415-561-4323

GGNRA Park Headquarters, Building 201, Fort Mason, San Francisco, CA 94123, Phone: 415-561-4720

San Francisco Main Library, Government Information Center, Civic Center, San Francisco, CA 94102, Phone: 415-557-4500

San Francisco Library, Presidio Branch, 3150 Sacramento Street, San Francisco, CA 94115, Phone: 415-292-2155

The Final EIS and Planning Guidelines are available for viewing on the Internet by clicking on “Library” and then “Postings” at the following website: http://www.presidiotrust.gov.

LIMITATION ON ACTION: No decision on the preferred alternative will be made or recorded until at least 30 days after the publication by the U.S. Environmental Protection Agency (EPA) of notice that the Final EIS has been filed with the EPA. Subsequently, the Trust will publish a notice of the Record of Decision in the Federal Register.

FOR FURTHER INFORMATION CONTACT: John Pelka, NEPA Compliance Coordinator, The Presidio Trust, 34 Graham Street, P.O. Box 29052, San Francisco, CA 94129-0052. Telephone: 415-561-5300.

Dated: March 2, 2000.
Karen A. Cook,
General Counsel.

[FR Doc. 00-5583 Filed 3-9-00; 8:45 am]

BILLING CODE 4310-4R-U